DEPARTMENT OF ENERGY

Federal Energy Regulatory Commission

[Docket No. EL00-95-107, et al.]

San Diego Gas & Electric Company, et al.; Electric Rate and Corporate Filings

July 27, 2004.

The following filings have been made with the Commission. The filings are listed in ascending order within each docket classification.

1. San Diego Gas & Electric Company, Complainant, v. Sellers of Energy and Ancillary Services Into Markets Operated by the California Independent System Operator and the California Power Exchange Corporation, Respondents; Investigation of Practices of the California Independent System Operator and the California Power Exchange

[Docket Nos. EL00-95-107 and EL00-98-094]

Take notice that on July 22, 2004, the California Independent System Operator Corporation (ISO) submitted a compliance filing pursuant to the Commission's order issued June 22, 2004, in Docket Nos. EL00-95-085 and EL00-98-085.

ISO states that it has served copies of this letter, and all attachments, upon all parties on the official service list for the captioned docket. In addition, the ISO is posting this transmittal letter and all attachments on the ISO home page.

Comment Date: 5 p.m. eastern time on August 12, 2004.

2. New York Independent System Operator, Inc.

[Docket No. EL04-110-001]

Take notice that on July 22, 2004, the New York Independent System Operator, Inc. (NYISO) filed a report in compliance with the Commission's order issued June 22, 2004, in Docket No. EL04-110-001. NYISO states that the filing details the status of efforts to correct a Transmission Congestion Contract (TCC) database transcription error and describes the NYISO's plans for future TCC Reconfiguration Auctions.

NYISO states that it has electronically served a copy of this filing on the official representative of each of its customers, on each participant in its stakeholder committees, and on the New York State Public Service Commission.

Comment Date: 5 p.m. eastern time on August 12, 2004.

3. New York Independent System Operator, Inc.

[Docket Nos. ER97-1523-082, OA97-470-074, and ER97-4234-072]

Take notice that on July 23, 2004, the New York Independent System Operator, Inc. (NYISO) filed a refund report in compliance with the Commission's Letter Order issued April 13, 2004 in Docket No. ER97-1523-080, et al.

NYISO states that it has served a copy of this filing on all parties in the these proceedings.

Comment Date: 5 p.m. eastern time on August 13, 2004.

4. PJM Interconnection, L.L.C. Virginia Electric and Power Company

[Docket No. ER04-829-001]

Take notice that on July 23, 2004, Virginia Electric and Power Company (Dominion), pursuant to the submitted supplement to the Commission's deficiency letter issued July 16, 2004, in Docket No. ER04-829-000, filed a supplemental to the application filed May 11, 2004, in Docket No. ER04-829-000.

Dominion states that copies of the filing were served upon all parties to the service list for this docket.

Comment Date: 5 p.m. eastern time on August 6, 2004.

5. PJS Capital, LLC

[Docket No. ER04-896-002]

Take notice that on July 23, 2004 PJS Capital, LLC (PJS Capital) pursuant to the Commission's deficiency letter issued July 2, 2004, in Docket No. ER04-896-000, filed a second amendment to its May 28, 2004, Petition for Acceptance of Initial Rate Schedule, Waivers and Blanket Authority.

Comment Date: 5 p.m. eastern time on August 13, 2004.

6. POSDEF Power Company, LP

[Docket No. ER04-947-001

Take notice that on July 22, 2004, POSDEF Power Company, LP (POSDEF) submitted an amendment to its June 22, 2004, filing in Docket No. ER04-947-000, First Revised Sheet No. 2, POSDEF Power Company, LP FERC Electric Tariff, Original Volume No. 1. POSDEF states that the revised tariff sheet contains changes that conform with tariffs submitted by other affiliates of FPL Energy, LLC.

Comment Date: 5 p.m. eastern time on August 12, 2004.

7. AllEnergy Marketing Company, LLC

[Docket No. ER04-1032-000]

Take notice that on July 23, 2004, AllEnergy Marketing Company, LLC, filed a Notice of Cancellation of its FERC Electric Tariff, Original Volume No. 1, effective September 24, 2004.

Comment Date: 5 p.m. eastern time on August 13, 2004.

8. Pacific Gas and Electric Company

[Docket No. ER04-1036-000]

Take notice that on July 23, 2004, Pacific Gas and Electric Company (PG&E) tendered for filing a Wholesale Distribution Tariff (WDT) Service Agreement (Service Agreement) and an Interconnection Agreement (IA) between PG&E and Port of Stockton designated as Service Agreement No. 18 under PG&E Electric Tariff, First Revised Volume No. 4. PG&E states that the Service Agreement is submitted pursuant to the PG&E WDT and permits PG&E to recover the ongoing costs for service required over PG&E's distribution facilities. PG&E states that IA provides the terms and conditions for the continued interconnection of the Electric Systems of Port of Stockton and PG&E.

PG&E states that copies of this filing have been served upon Port of Stockton, the California Independent System Operator Corporation and the California Public Utilities Commission.

Comment Date: 5 p.m. eastern time on August 13, 2004.

9. Goldendale Energy Center, LLC

[Docket No. ER04-1038-000]

Take notice that on July 23, 2004, Goldendale Energy Center, LLC (the Applicant) submitted, under section 205 of the Federal Power Act (FPA), a request for authorization to make wholesale sales of electric energy, capacity, replacement reserves, and ancillary services at market-based rates, to reassign transmission capacity, and to resell firm transmission rights. Applicant states that it owns and will operate a nominal 271 megawatt natural gas-fired combined-cycle electric generation facility in Goldendale, Washington. Applicant requests an effective date of July 24, 2004.

Comment Date: 5 p.m. eastern time on August 13, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1720 Filed 8-3-04; 8:45 am]

BILLING CODE 6717-01-P